DEPARTMENT OF JUSTICE

Notice of Lodging of Proposed Second Amendment to Consent Decree Under the Clean Water Act

On November 30, 2015, the Department of Justice lodged a proposed Second Amendment to Consent Decree in United States and the State of Maryland, et al. v. Washington Suburban Sanitary Commission, Civil Action No. PJM-04-3679 in the United States District Court for the District of Maryland, Greenbelt Division. Notice is hereby given that, for a period of 30 days, the United States will receive public comments on the proposed Second Amendment to Consent Decree.

On December 7, 2005, the United States District Court for the District of Maryland entered a Consent Decree in the above-referenced case to resolve claims that WSSC had violated the Clean Water Act and Maryland water pollution control, health and nuisance laws. Four citizens groups- the Anacostia Watershed Society, the Audubon Naturalist Society of the Central Atlantic States, Inc., Friends of Sligo Creek, and Natural Resources Defense Council also intervened as plaintiffs in the underlying civil action, and signed the Consent Decree. In a First Amendment to the Consent Decree another citizens group- the Patuxent Riverkeeper- also intervened as a plaintiff.

The overarching purpose of the 2005 Consent Decree is to eliminate the sanitary sewer overflows (“SSOs”) occurring in WSSC's collection system by, among other things, requiring WSSC to inspect the condition of its sewer basins, identify structural and capacity problems contributing to SSOs, and to propose plans to remediate such problems. The 2005 Consent Decree, as entered, requires WSSC to complete collection system repair work by December 7, 2015. Although WSSC has completed the majority of this work, it has been unable to complete a sizable portion of the work due to delays in obtaining necessary permits from governmental agencies, and the need to institute condemnation proceedings to obtain access to private property to perform sewer work.

Thus in the proposed Second Amendment the United States, Maryland and WSSC have agreed that WSSC shall have six additional years to complete most of the “delayed work.” The Second Amendment makes an exception to the overall six year extension for delayed work affecting lands owned and managed by the National Park System (“NPS”) of the United States Department of Interior. For sewer projects affecting NPS lands, the timing of NPS's issuance of a permit to proceed will determine how much additional time WSSC has to complete such work.

Pursuant to Paragraph 60 (the “Modification Section”) of the 2005 Consent Decree, material modifications to the Decree may be made by written agreement of the United States, Maryland and WSSC, and approval of the Court, after notice and motion to all parties. The citizens groups have a right to support or oppose a motion for material modification by filing with the Court and serving on all parties a statement of position.

The publication of this notice also opens a period for public comment on the proposed Second Amendment to Consent Decree. Comments should be addressed to the Assistant Attorney General, Environment and Natural Resources Division, and should refer to United States and the State of Maryland, et al. v. Washington Suburban Sanitary Commission, (Civil Action No. PJM-04-3679, D.J. Ref. No. 90-5-1-1-07360. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department Web site: http://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $2.50 (25 cents per page reproduction cost) payable to the United States Treasury.

Robert D. Brook,
Assistant Chief, Environmental Enforcement Section, Environment and Natural Resources Division.

[FR Doc. 2015-30611 Filed 12-3-15; 8:45 am]

BILLING CODE 4410-15-P